DEPARTMENT OF COMMERCE

National Oceanic and Atmospheric Administration

RIN 0648-XC630

Endangered and Threatened Species; Take of Anadromous Fish

AGENCY: NOAA's National Marine Fisheries Service (NMFS), National Oceanic and Atmospheric Administration (NOAA), U.S. Department of Commerce.

ACTION: Issuance of a scientific research permit.

SUMMARY: Notice is hereby given that NMFS has issued scientific research Permit 15610 to the Oregon State University, Department of Fisheries and Wildlife (OSU).

ADDRESSES: The permit application, the permit, and related documents are available for review, by appointment, at the foregoing address at: Protected Resources Division, NMFS, 501 W. Ocean Blvd., Suite 4200, Long Beach, CA 90802 phone: 562-980-4026, fax: 562-980-4027, email at: Matthew.McGoogan@noaa.gov). The permit application is also available for review online at the Authorizations and Permits for Protected Species Web site at https://apps.nmfs.noaa.gov.

FOR FURTHER INFORMATION CONTACT: Matt McGoogan at 562-980-4026, or email: Matthew.McGoogan@noaa.gov.

SUPPLEMENTARY INFORMATION:

Authority

The issuance of permits, as required by the Endangered Species Act of 1973 (16 U.S.C. 1531-1543) (ESA), is based on a finding that such permits: (1) Are applied for in good faith; (2) would not operate to the disadvantage of the listed species that are the subject of the permits; and, (3) are consistent with the purposes and policies set forth in section 2 of the ESA. Authority to take listed species is subject to conditions set forth in the permits. Permits are issued in accordance with and are subject to the ESA and NMFS regulations (50 CFR parts 222-226) governing listed fish and wildlife permits.

Species Covered in This Notice

This notice is relevant to the federally endangered Southern California Distinct Population Segment of steelhead (Oncorhynchus mykiss).

Permit Issued

A notice of the receipt of an application for Permit 15610 was published in the Federal Register on November 14, 2012 (77 FR 67796). Permit 15610 was issued to OSU on March 4, 2013. Permit 15610 authorizes OSU to conduct a scientific study of steelhead on several streams in the Ventura River watershed in Ventura County, California. The primary objectives of this study are to (1) determine if population genetic structure exists in the steelhead and rainbow trout subpopulations in the Ventura Basin, (2) determine smoltification patterns of steelhead and rainbow trout in the Ventura Basin and influence between the two life history forms, and (3) determine downstream migration patterns for steelhead and rainbow trout and how those patterns may be influenced by environmental conditions.

Research activities include (1) monitoring water temperature, (2) capturing smolts and adult steelhead in a migrant trap at the Robles Diversion Dam, (3) capturing smolts and juvenile steelhead using a seine in the Ventura River estuary, (4) capturing smolts and juvenile steelhead by electrofishing pre-determined sample sites throughout the Ventura River watershed, (5) recording weight and length of smolts and juvenile steelhead, (6) removing tissue (gill and fin clip) samples from smolts and juvenile steelhead, (7) analyzing fin clips for genetic structure, (8) analyzing gill samples for ATPase (decomposition of adenosine triphosphate (ATP) into adenosine diphosphate and a free phosphate ion as an indicator of smoltification, and (9) inserting Passive Integrated Transponder (PIT) tags into smolts and juvenile steelhead.

Permit 15610 authorizes the non-lethal capture and release of up to 210 juvenile steelhead (30 juvenile steelhead from 7 different sites) over the course of 1 year for the purpose of genetic sampling (fin clip), the capture and release of up to 684 steelhead smolts (342 smolts annually over 2 years of sampling) and 304 juvenile steelhead (152 juvenile steelhead annually over 2 years of sampling) for the purpose of PIT tagging and tissue (gill/ATPase) sampling, capture and release of up to 10 adult steelhead (5 adults annually over 2 years of sampling) for genetic sampling (fin clip), and up to 40 tissue samples (fin clip) from adult steelhead carcasses (20 adult carcasses annually over 2 years of sampling). The authorized unintentional lethal take for Permit 15610 is a total of 9 juvenile steelhead and 16 steelhead smolts. All mortalities will be sent to NMFS Protected Resources Division in Long Beach, California for genetic research and processing. Field activities associated with Permit 15610 began after the permit was issued on March 4, 2013, and will cease when the permit expires on May 31, 2015.

Dated: April 15, 2013.
Angela Somma,
Chief, Endangered Species Division, Office of Protected Resources, National Marine Fisheries Service.

[FR Doc. 2013-09107 Filed 4-17-13; 8:45 am]

BILLING CODE 3510-22-P